ENVIRONMENTAL PROTECTION AGENCY

40 CFR Part 300

[FRL-7489-6]

National Oil and Hazardous Substance Pollution Contingency Plan National Priorities List Update

AGENCY: Environmental Protection Agency.

ACTION: Notice of deletion of a portion of the South Indian Bend Wash Site from the National Priorities List

SUMMARY: The Environmental Protection Agency (EPA) Region IX is issuing a Notice of Deletion of a portion of the South Indian Bend Wash Site (Site) located in Tempe, Arizona, from the National Priorities List (NPL). The NPL is appendix B of 40 CFR part 300 which is the National Oil and Hazardous Substances Pollution Contingency Plan (NCP), which EPA promulgated pursuant to section 105 of the Comprehensive Environmental Response, Compensation, and Liability Act of 1980 (CERCLA), as amended. The EPA and the State of Arizona, through the Arizona Department of Environmental Quality, have determined that all appropriate response actions under CERCLA have been completed. However, this deletion does not preclude future actions under Superfund.

EFFECTIVE DATE: May 1, 2003.

FOR FURTHER INFORMATION CONTACT: Sean Hogan, Project Manager, U.S. EPA, Region IX, SFD-8-2, 75 Hawthorne Street, San Francisco, CA 94105-3901, (415) 972-3261 or (800) 231-3075.

SUPPLEMENTARY INFORMATION: The area to be deleted from the NPL is a portion of the South Indian Bend Wash Superfund Site, in Tempe, Arizona. The exact area being deleted was defined in the Notice of Intent for Partial Deletion of a portion of the South Indian Bend Wash Site from the National Priorities List published in the Federal Register on February 28, 2003 (67 FR 51528).

The closing date for comments on the Notice of Intent to Delete was March 31, 2003. One comment was received in support of the partial deletion; this comment also requested consideration for deletion of another parcel at the Site. EPA will respond separately to this request and has not prepared a Responsiveness Summary. EPA identifies sites that appear to present a significant risk to public health, welfare, or the environment, and it maintains the NPL as the list of those sites. Section 300.425(e)(3) of the NCP states that Fund-financed actions may be taken at sites deleted from the NPL in the unlikely event that conditions at these sites warrant such actions. Deletion of a site from the NPL does not affect responsible party liability or impede EPA's efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: April 14, 2003.
Keith Takata,
Acting Regional Administrator, Region IX.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[Amended]

2. In Table 1 of Appendix B to part 300, for Arizona, the entry for “Indian Bend Wash Area” is amended by adding “P” in the Notes column.

[FR Doc. 03-10547 Filed 4-30-03; 8:45 am]

BILLING CODE 6560-50-P